DEPARTMENT OF ENERGY

Federal Energy Regulatory Commission

[Project No. 2149-152]

Public Utility District No. 1 of Douglas County; Notice of Intent To Prepare an Environmental Impact Statement

December 16, 2010.

On May 27, 2010, Public Utility District No. 1 of Douglas County filed an application for the continued operation of the 774.3-megawatt Wells Hydroelectric Project No. 2149. Federal lands within the project boundary include 8.60 acres of U.S. Department of Interior and 6.55 acres of U.S. Army Corps of Engineers land.

In accordance with the National Environmental Policy Act (NEPA) and the Commission's regulations, Commission staff held public scoping meetings for the relicensing of the Wells Project on February 28, 2007, in East Wenatchee and Brewster, Washington. Based on the comments received in response to the Commission's August 10, 2010 Notice of Application Accepted for Filing, Soliciting Motions to Intervene and Protests, Ready for Environmental Analysis, and Soliciting Comments, Recommendations, Preliminary Terms and Conditions, and Preliminary Fishway Prescriptions, and an errata to this notice issued on August 19, 2010, Commission staff has determined that relicensing of the Wells Project may constitute a major federal action significantly affecting the quality of the human environment. Therefore, staff now intends to prepare an Environmental Impact Statement (EIS) that addresses the relicensing of the Wells Project.

A draft EIS will be issued and circulated for review by all interested parties. All comments filed on the draft EIS will be analyzed by the staff and considered in the final EIS. The staff's conclusions and recommendations will be available for the Commission's consideration in reaching its final licensing decision.

The application will be processed according to the following schedule. Revisions to the schedule may be made as appropriate.

Milestone | Target date
Issue Draft EIS | April 6, 2011.
Comments on Draft EIS due | May 23, 2011.
Commission issues Final EIS | October 6, 2011.

This notice informs all interested individuals, organizations, and agencies with environmental expertise and concerns, that: (1) The Commission staff has decided to prepare an EIS addressing the relicensing of the Wells Project; and (2) the prior scoping conducted on this project by Commission staff and comments filed with the Commission on the application will be taken into account in the EIS.

Any questions regarding this notice may be directed to Kim A. Nguyen at (202) 502-6105, or by e-mail at kim.nguyen@ferc.gov.

Kimberly D. Bose,
Secretary.

[FR Doc. 2010-32359 Filed 12-23-10; 8:45 am]

BILLING CODE 6717-01-P